DEPARTMENT OF TRANSPORTATION

Surface Transportation Board

Notice and Request for Comments

AGENCY: Surface Transportation Board, DOT.

ACTION: 60-day notice of intent to seek extension of approval: Disclosure of Rail Interchange Commitments.

SUMMARY: As required by the Paperwork Reduction Act of 1995, 44 U.S.C. 3501-3519 (PRA), the Surface Transportation Board (STB or Board) gives notice of its intent to seek from the Office of Management and Budget (OMB) an extension of approval for the currently approved collection of rail contracts that contain interchange commitments. Such contracts are submitted in operation and acquisition exemption proceedings, in accordance with the Board's regulations governing the disclosure of rail interchange commitments. See 49 CFR 1121.3(d); 1150.33 (h); 1150.43(h); 1180.4(g)(4). This information collection is described in more detail below. Comments are requested concerning (1) the accuracy of the Board's burden estimates; (2) ways to enhance the quality, utility, and clarity of the information collected; (3) ways to minimize the burden of the collection of information on the respondents, including the use of automated collection techniques or other forms of information technology, when appropriate; and (4) whether this collection of information is necessary for the proper performance of the functions of the Board, including whether the collection has practical utility. Submitted comments will be summarized and included in the Board's request for OMB approval.

Description of Collection

Title: Disclosure of Rail Interchange Commitments.

OMB Control Number: 2140-0016.

STB Form Number: None.

Type of Review: Extension without change.

Respondents: Noncarriers and carriers seeking an exemption to acquire (through purchase or lease) and/or operate a rail line, if the proposed transaction would create an interchange commitment.

Number of Respondents: 6.

Estimated Time per Response: Less than 15 minutes.

Frequency: On occasion.

Total Burden Hours (annually including all respondents): 1½; hours.

Total “Non-hour Burden” Cost: None identified.

Needs and Uses: Under 49 U.S.C. 10502, noncarriers and carriers may seek an exemption from the prior approval requirements of sections 10901, 10902, and 11323 to acquire (through purchase or lease) and operate a rail line. This collection of agreements with interchange commitments facilitates the case-specific review of interchange commitments and facilitates the Board's monitoring of their usage generally.

Retention Period: Information in this report will be maintained in the Board's confidential file for 10 years, after which it is transferred to the National Archives.

DATES: Comments on this information collection should be submitted by February 22, 2011.

ADDRESSES: Direct all comments to Marilyn Levitt, Surface Transportation Board, 395 E Street SW., Washington, DC 20423-0001, or to levittm@stb.dot.gov. When submitting comments, please refer to “Disclosure of Rail Interchange Commitments, OMB Control Number 2140-0016.”

For Further Information or to Obtain a Copy of the STB Form, Contact: Joe Dettmar at (202) 245-0395 or at dettmarj@stb.dot.gov. [Assistance for the hearing impaired is available through the Federal Information Relay Service (FIRS) at 1-800-877-8339.]

SUPPLEMENTARY INFORMATION: Under the PRA, a Federal agency conducting or sponsoring a collection of information must display a currently valid OMB control number. A collection of information, which is defined in 44 U.S.C. 3502(3) and 5 CFR 1320.3(c), includes agency requirements that persons submit reports, keep records, or provide information to the agency, third parties, or the public. Under section 3506(c)(2)(A) of the PRA, Federal agencies are required to provide, prior to an agency's submitting a collection to OMB for approval, a 60-day notice and comment period through publication in the Federal Register concerning each proposed collection of information, including each proposed extension of an existing collection of information.

Dated: December 16, 2010.
Andrea Pope-Matheson,
Clearance Clerk.

[FR Doc. 2010-31995 Filed 12-21-10; 8:45 am]

BILLING CODE 4915-01-P